FEDERAL COMMUNICATIONS COMMISSION

Notice of Public Information Collection(s) Being Reviewed by the Federal Communications Commission

April 26, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 3, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0805.

Title: Section 90.527, Regional Plan Requirements; Section 90.523, Eligibility; and Section 90.545, TV/DTV Interference Protection Criteria

Form No: N/A.

Type of Review: Extension of a currently approved collection.

Respondents: Business or other for-profit, not-for-profit institutions, and state, local or tribal government.

Number of Respondents: 21,055 respondents; 21,175 responses.

Estimated Time Per Response: 2-982 hours.

Frequency of Response: On occasion and one-time reporting requirements and third party disclosure requirement.

Total Annual Burden: 186,082 hours.

Total Annual Cost: N/A.

Privacy Act Impact Assessment: N/A.

Needs and Uses: The Commission is submitting this information collection to the Office of Management and Budget (OMB) to request extension (no change) to this information collection. Section 90.523 requires that nongovernmental organizations that provide services which protect the safety of life, or property, obtain a written statement from an authorizing state or local government entity to support the nongovernmental organization's application for the assignment of 700 MHz radio frequencies. Under Section 90.527 in order to prepare the regional plans for the 700 MHz band, the regional planning committees will require input from those entities within their regions that will be eligible to receive licenses under the plans. Thus, the entities that seek inclusion in the plan in order to obtain licenses will be third party respondents. Section 90.545 requires that public safety applicants select one of three ways to meet TV/DTV interference protection requirements: (1) Utilize the geographic separation in the rule; (2) submit an engineering study to justify other separations; or (3) obtain concurrence from applicable TV/DTV station(s). This will reduce the potential for interference to public reception of the signals of existing TV and DTV broadcast stations transmitting on TV channels 62, 63, 64, 65, 67, 68 or 69. Commission personnel will use the information it obtains to assign licenses, and also use the information to determine regional spectrum requirements and to develop technical standards. The information will also be used to determine whether prospective licensees will operate in compliance with the Commission's rules. Without such information, the Commission could not accommodate regional requirements or provide for the optimal use of the available frequencies.

Federal Communications Commission.
Marlene H. Dortch,
Secretary.

[FR Doc. 05-8804 Filed 5-3-05; 8:45 am]

BILLING CODE 6712-01-P